DEPARTMENT OF AGRICULTURE

Cooperative State Research, Education, and Extension Service

7 CFR Chapter XXXIV

Solicitation of Input From Stakeholders on the 1890 Institution Capacity Building Grants Program

AGENCY: Cooperative State Research, Education, and Extension Service, USDA.

ACTION: Request for stakeholder input.

SUMMARY: The 1890 Institution Capacity Building Grants Program is authorized under section 1417(b)(4) of the National Agricultural Research, Extension, and Teaching Policy Act of 1977, as amended (NARETPA) (7 U.S.C. 3152(b)(4)) and pursuant to the annual appropriations made specifically for the 1890 Institution Capacity Building Grants Program. Section 7107 of the Food, Conservation, and Energy Act of 2008 (FCEA) (Pub. L. 110-246) amended section 1417(b)(4) of NARETPA to add extension to the 1890 Institution Capacity Building Grants Program. By this notice, the Cooperative State Research, Education, and Extension Service (CSREES) is soliciting public comment and stakeholder input from interested parties regarding the future design and implementation of this program, particularly the addition of extension to this program.

DATES: All written comments must be received by May 20, 2009.

ADDRESSES: You may submit comments, identified by CSREES-2009-0007, through the Federal eRulemaking Portal: http://www.regulations.gov. Follow the instructions for submitting comments.

Fax: (202) 720-3398.

Mail: Paper, disk or CD-ROM submissions should be submitted to Science and Education Resources Development (SERD) Unit; Cooperative State Research, Education, and Extension Service; U.S. Department of Agriculture; Mail Stop 2250; 1400 Independence Avenue, SW.; Washington, DC 20250-2250.

Hand Delivery/Courier: Ali Mohamed; Science and Education Resources Development SERD Unit; Cooperative State Research, Education, and Extension Service; U.S. Department of Agriculture; Room 3101; Waterfront Centre; 800 9th Street, SW.; Washington, DC 20024.

Instructions: All submissions received must include the Title, “1890 Institution Capacity Building Grants Program” and CSREES-2009-0007. All comments received will be posted to http://www.regulations.gov, including any personal information provided.

FOR FURTHER INFORMATION CONTACT: Ali Mohamed, (202) 720-5229 (phone), (202) 720-3398 (fax), or mohamed@csrees.usda.gov, or Tim Grosser, (202) 690-0402 (phone), (202) 720-3398 (fax), or tgrosser@csrees.usda.gov.

SUPPLEMENTARY INFORMATION:

Background and Summary

Purpose

CSREES has existing regulations for this program at 7 CFR part 3406, 1890 Institution Capacity Building Grants Program, which were finalized on July 22, 1997 [62 FR 39329-39349]. Since then, CSREES published an interim regulation for competitive and noncompetitive non-formula Federal assistance programs (7 CFR part 3430) on August 1, 2008 [73 FR 44897-44909]. That interim regulation consolidates, standardizes, and streamlines the Federal assistance processes for all CSREES competitive and noncompetitive non-formula Federal assistance programs, except the Small Business Innovation Research Grants Program with implementing regulations at 7 CFR part 3403 and the Veterinary Medicine Loan Repayment Program with implementing regulations under development. The interim rule furthers the streamlining and standardization efforts of the Federal Financial Assistance Management Improvement Act of 1999, Public law 106-107 (31 U.S.C. 6101 note), which sunset in November 2007, and is in accordance with the efforts of CSREES and the U.S. Department of Agriculture (USDA) to streamline and simplify the entire Federal assistance process while meeting the ever-increasing accountability and transparency standards.

As stated in the preamble to the August 1, 2008, regulatory notice, CSREES organized the regulation as follows: Subparts A through E provide administrative provisions for all competitive and noncompetitive non-formula Federal assistance awards. Subparts F and thereafter apply to specific CSREES programs. CSREES is, to the extent practical, using the following subpart template for each program authority: (1) Applicability of regulations; (2) purpose; (3) definitions (those in addition to or different from § 3430.2); (4) eligibility; (5) project types and priorities; (6) funding restrictions; and (7) matching requirements. Subparts F and thereafter will contain the seven components in this order, to the extent practical. Additional sections may be added for a specific program if there are additional requirements or a need for additional rules for the program (e.g., additional reporting requirements). In the preamble, CSREES also states that it plans to review the existing program-specific regulations, promulgate a separate subpart under 7 CFR part 3430 for the Federal assistance program regulations, and when appropriate, cancel the existing program-specific regulation. Accordingly, CSREES is proposing to add subpart L to 7 CFR part 3430 for the 1890 Institution Capacity Building Grants Program and is soliciting stakeholder comment in the development of the subpart for this program.

Section 7107 of the FCEA amended section 1417(b)(4) of NARETPA to add extension to the 1890 Institution Capacity Building Grants Program. With the FCEA amendment, CSREES is now authorized to award grants to build teaching, research, and extension capacity in the food and agricultural sciences at the 1890 Institutions eligible to receive funds under the Act of August 30, 1890 (7 U.S.C. 321 et seq.). To develop the FY 2009 Request for Applications (RFA) for this program and the associated implementing regulation, CSREES will consider stakeholder input received pursuant to this notice. In addition to the future design and implementation of the program, CSREES is soliciting comments on how funds should be allocated among research, teaching, extension, and for projects combining two or more of these areas (e.g., research and extension).

Purpose of the 1890 Institution Capacity Building Grants Program

The 1890 Capacity Building Grants Program is intended to fund projects that build teaching, research, and extension capacity in the food and agricultural sciences at colleges and universities having significant minority enrollments, and pursuant to annual appropriations made available specifically by Congress for the 1890 Institutions. The program is designed to build the institutional teaching, research, and extension capacities of the eligible institutions through cooperative programs with Federal and non-Federal entities. The program is designed to achieve three major goals:

(1) To advance cultural diversity of the food and agricultural scientific and professional work force by attracting and educating more students from underrepresented groups;

(2) To strengthen linkages among the 1890 Institutions, other colleges and universities, USDA, and private industry; and

(3) To enhance the quality of teaching, research, and extension programs at the 1890 Institutions to more readily establish them as full partners in the U.S. food and agricultural sciences higher education system.

Implementation Plans

In developing the FY 2009 1890 Institution Capacity Building Grants Program RFA and the program-specific administrative regulations for this program as subpart L to 7 CFR part 3430, Competitive and Noncompetitive Non-Formula Federal Assistance Programs—General Award Administrative Provisions, CSREES plans to consider all stakeholder input and the written comments received in response to this notice. CSREES anticipates releasing the FY 2009 RFA by May 31, 2009.

Done at Washington, DC, this 16th day of April 2009.
Colien Hefferan,
Administrator, Cooperative State Research, Education, and Extension Service.

[FR Doc. E9-9123 Filed 4-17-09; 8:45 am]

BILLING CODE 3410-22-P